DEPARTMENT OF DEFENSE

Department of the Air Force

HQ USAF Scientific Advisory Board

AGENCY: Department of the Air Force, DoD.

ACTION: Notice of meeting.

SUMMARY: Pursuant to Public Law 92-463, notice is hereby given of the forthcoming meeting of the Predictive Battlespace Awareness (PBA) Study Information Integration and Prediction/ Confirmation Tools Panels. The purpose of the meeting is to allow the SAB and study leadership to gather information from Army personnel related to their work in the area of PBA. Because of meeting classification level, this meeting will be closed to the public.

DATES: 29 May 2002, 0800-1700.

ADDRESSES: The Command and General Staff College, The Pershing Conference Room/Eisenhower Hall, 250 Gibbon Avenue, Fort Leavenworth, KS 66027.

FOR FURTHER INFORMATION CONTACT: Colonel Marian Alexander, Air Force Scientific Advisory Board Secretariat, 1180 Air Force Pentagon, Rm 5D982, Washington DC 20330-1180, (703) 697-4811.

Pamela D. Fitzgerald,
Air Force Federal Register Liaison Officer.

[FR Doc. 02-11016 Filed 5-2-02; 8:45 am]

BILLING CODE 5001-05-U